DEPARTMENT OF HEALTH AND HUMAN SERVICES

National Institutes of Health

Submission for OMB Review; 30-Day Comment Request; CareerTrac

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to https://www.reginfo.gov/public/do/PRAMain. Find this particular information collection by selecting “Currently under 30-day Review—Open for Public Comments” or by using the search function.

FOR FURTHER INFORMATION CONTACT: To request more information on the proposed project or to obtain a copy of the data collection plans and instruments, contact: Celia Katz, Project Clearance Liaison, FIC, NIH, 16 Center Drive, Bethesda, MD 20892 or call non-toll-free number (301)-594-7857 or Email your request, including your address to: celia.wolfman@nih.gov.

SUPPLEMENTARY INFORMATION: This proposed information collection was previously published in the Federal Register on March 11, 2024, pages 17493-17494 (89 FR 17493) and allowed 60 days for public comment. No public comments were received. The purpose of this notice is to allow an additional 30 days for public comment.

The Fogarty International Center (FIC), National Institute of Environmental Health Sciences (NIEHS), National Institute of Diabetes and Digestive and Kidney Diseases (NIDDK) and National Institute of Minority Health Disparities (NIMHD), National Cancer Institute Center to Reduce Cancer Health Disparities (NCI/CRCHD), National Institutes of Health (NIH), may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: CareerTrac, 0925-0568, Expiration Date: 05/31/2024 REVISION, Fogarty International Center (FIC), National Institute of Environmental Health Sciences (NIEHS), National Institute of Diabetes and Digestive and Kidney Diseases (NIDDK) and National Institute of Minority Health Disparities (NIMHD), National Cancer Institute Center to Reduce Cancer Health Disparities (NCI/CRCHD), National Institutes of Health (NIH).

Need and Use of Information Collection: The purpose of this data collection system is to track, evaluate and report short and long-term outputs, outcomes and impacts of trainees involved in health research training programs-specifically tracking this for at least ten years following training by having Principal Investigators enter data after trainees have completed the program. The data collection system provides a streamlined, web-based application permitting principal investigators to record career achievement progress by trainee on a voluntary basis. FIC, NIEHS, NIDDK, NIMHD and NCI management will use this data to monitor, evaluate and adjust grants to ensure desired outcomes are achieved, comply with OMB Part requirements, respond to congressional inquiries, and as a guide to inform future strategic and management decisions regarding the grant program.

OMB approval is requested for 3 years. There are no costs to respondents other than their time. The total estimated annualized burden hours are 13,539.

Estimated Annualized Burden Hours
Type of respondent | Number of respondents | Number of responses per respondent | Average time per response (in hours) | Total annual burden hour
FIC Grantee | 90 | 20 | 40/60 | 1200
NIEHS Grantee | 1517 | 3 | 40/60 | 3034
NIMHD Grantee | 10 | 100 | 40/60 | 667
NIDDK Grantee | 170 | 4 | 40/60 | 453
NCI/CRCHD Grantee | 264 | 22 | 40/60 | 3,872
Superfund Grantee | 49 | 30 | 40/60 | 980
Trainees | 5,000 | 1 | 40/60 | 3,333
Total | 7,100 | 20,309 |  | 13,539

Jane M. Lambert,
Project Clearance Liaison, National Institute of Environmental Health Sciences, National Institutes of Health.

[FR Doc. 2024-11594 Filed 5-24-24; 8:45 am]

BILLING CODE 4140-01-P